EXPORT-IMPORT BANK

Sunshine Act Meetings; Notice of an Open Meeting of the Board of Directors of the Export-Import Bank of the United States

TIME AND DATE: Thursday, September 30, 2020 at 9:30 a.m.

PLACE: The meeting will be held via teleconference.

STATUS: The meeting will be open to public observation for Item Number 1.

MATTERS TO BE CONSIDERED: 1. Review of the Long-term High-Risk Policy (LTHR)

CONTACT PERSON FOR MORE INFORMATION: Joyce B. Stone (202-257-4086). Members of the public who wish to attend the meeting via teleconference should register via using the link below:

https://teams.microsoft.com/registration/PAFTuZHHMk2Zb1GDkIVFJw,pHLqbjVTrkuy_9KepKN6dQ,MFtnLzltSEGI6EQECdI5iQ,ZqUPHLRhqUeX1pROj1U88w,NvLwledauUa-H62Qo4IfbQ,tHbdcrmUp0CEagtVkCFgxw?mode=read&tenantId=b953013c-c791-4d32-996f-518390854527

by noon Wednesday, September 29, 2021. Individuals will be directed to a Webinar registration page and provided call-in information.

Joyce B. Stone,
Assistant Corporate Secretary.

[FR Doc. 2021-20445 Filed 9-17-21; 11:15 am]

BILLING CODE 6690-01-P